DEPARTMENT OF COMMERCE

National Oceanic and Atmospheric Administration

RIN 0648-XD274

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a meeting of its Outreach and Education Advisory Panel.

DATES: The meeting will be held from 1:30 p.m. on Tuesday, May 20 until 11:30 a.m. on Thursday, May 22, 2014.

ADDRESSES: Meeting address: The meeting will be held at the Council's office.

Council address: Gulf of Mexico Fishery Management Council, 2203 North Lois Avenue, Suite 1100, Tampa, FL, 33607.

FOR FURTHER INFORMATION CONTACT: Charlene Ponce, Public Information Officer, Gulf of Mexico Fishery Management Council; telephone: (813) 348-1630; fax: (813) 348-1711; email: charlene.ponce@gulfcouncil.org.

SUPPLEMENTARY INFORMATION: The items of discussion on the agenda are as follows:

Outreach and Education Advisory Panel Meeting Agenda, Tuesday, May 20, 2014, 1:30 p.m. until 4:30 p.m.

Welcome and Introductions

Approval of minutes

Review RAP Session Summaries

Outreach and Education Advisory Panel Meeting Agenda, Wednesday, May 21, 2014, 8:30 a.m. until 3:30 p.m.

Review of Gulf Council Stakeholder Survey

A. Overview

B. Findings

C. Recommendations

Review 5-Year Strategic Communications Plan

A. Revise Strategies/Tactics as necessary

Discuss Web site Content & Navigation

A. Review Stakeholder Comments

B. Recommendations

Outreach and Education Advisory Panel Meeting Agenda, Thursday, May 22, 2014, 8:30 a.m. until 11:30 a.m.

Review of Scoping Workshop/Public Hearing format

A. Recommendations

Marine Resource Education Program (MREP) Update

Other Business

Adjourn

Although non-emergency issues not contained in this agenda may come before this group for discussion, those issues may not be the subject of formal action during this meeting. Action will be restricted to those issues specifically identified in this notice and any issues arising after publication of this notice that require emergency action under section 305c of the Magnuson-Stevens Fishery Conservation and Management Act, provided the public has been notified of the Council's intent to take final action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: April 29, 2014.
Tracey L. Thompson,
Acting Deputy Director, Office of Sustainable Fisheries, National Marine Fisheries Service.

[FR Doc. 2014-10083 Filed 5-1-14; 8:45 am]

BILLING CODE 3510-22-P